DEPARTMENT OF TRANSPORTATION

Federal Aviation Administration

14 CFR Part 39

[Docket No. FAA-2017-1175; Product Identifier 2017-NM-087-AD; Amendment 39-19300; AD 2018-11-12]

RIN 2120-AA64

Airworthiness Directives; Bombardier, Inc., Airplanes

AGENCY: Federal Aviation Administration (FAA), Department of Transportation (DOT).

ACTION: Final rule.

SUMMARY: We are adopting a new airworthiness directive (AD) for all Bombardier, Inc., Model CL-600-2C10 (Regional Jet Series 700, 701, & 702) airplanes, Model CL-600-2D15 (Regional Jet Series 705) airplanes, Model CL-600-2D24 (Regional Jet Series 900) airplanes, and Model CL-600-2E25 (Regional Jet Series 1000) airplanes. This AD was prompted by a report that Belleville washers installed on the shimmy damper of the main landing gear (MLG) may fail due to fatigue. This AD requires revising the maintenance or inspection program, as applicable, to incorporate a repetitive task specified in the maintenance review board (MRB) report. We are issuing this AD to address the unsafe condition on these products.

DATES: This AD is effective July 12, 2018.

The Director of the Federal Register approved the incorporation by reference of a certain publication listed in this AD as of July 12, 2018.

ADDRESSES: For service information identified in this final rule, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; internet http://www.bombardier.com. You may view this referenced service information at the FAA, Transport Standards Branch, 2200 South 216th St., Des Moines, WA. For information on the availability of this material at the FAA, call 206-231-3195. It is also available on the internet at http://www.regulations.gov by searching for and locating Docket No. FAA-2017-1175.

Examining the AD Docket

You may examine the AD docket on the internet at http://www.regulations.gov by searching for and locating Docket No. FAA-2017-1175; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE, Washington, DC 20590.

FOR FURTHER INFORMATION CONTACT: Cesar Gomez, Aerospace Engineer, Airframe and Mechanical Systems Section, FAA, New York ACO Branch, 1600 Stewart Avenue, Suite 410, Westbury, NY 11590; telephone 516-228-7318; fax 516-794-5531.

SUPPLEMENTARY INFORMATION:

Discussion

We issued a notice of proposed rulemaking (NPRM) to amend 14 CFR part 39 by adding an AD that would apply to all Bombardier, Inc., Model CL-600-2C10 (Regional Jet Series 700, 701, & 702) airplanes, Model CL-600-2D15 (Regional Jet Series 705) airplanes, Model CL-600-2D24 (Regional Jet Series 900) airplanes, and Model CL-600-2E25 (Regional Jet Series 1000) airplanes. The NPRM published in the Federal Register on January 2, 2018 (83 FR 83) (“the NPRM”).

Transport Canada Civil Aviation (TCCA), which is the aviation authority for Canada, has issued Canadian AD CF-2017-14, dated April 21, 2017 (referred to after this as the Mandatory Continuing Airworthiness Information, or “the MCAI”), to correct an unsafe condition for all Bombardier, Inc., Model CL-600-2C10 (Regional Jet Series 700, 701, & 702) airplanes, Model CL-600-2D15 (Regional Jet Series 705) airplanes, Model CL-600-2D24 (Regional Jet Series 900) airplanes, and Model CL-600-2E25 (Regional Jet Series 1000) airplanes. The MCAI states:

It has been found that Belleville washers installed on the Main Landing Gear (MLG) Shimmy Damper may fail in fatigue. A failed washer segment migrating into the piston cavity may interfere with piston travel. As a result, shimmy damper performance would be compromised, MLG shimmy could occur and potentially lead to a MLG failure.

As a result of this investigation, a restoration task has been added for Belleville washers' replacement at 20,000 flight cycles, during MLG overhaul. For aeroplanes that have passed the 20,000 flight cycle threshold, a phase-in period is defined.

This [Canadian] AD is issued to mandate the Maintenance Review Board (MRB) revised task for the affected aeroplanes models.

You may examine the MCAI in the AD docket on the internet at http://www.regulations.gov by searching for and locating Docket No. FAA-2017-1175.

Comments

We gave the public the opportunity to participate in developing this AD. The following presents the comment received on the NPRM and the FAA's response to that comment.

Request to the Contact Manufacturer for Service Information

Bombardier stated that task number 320100-229, Restoration (Belleville Washer Replacement) of the MLG Shimmy Damper, of the MRB Report of the Bombardier CRJ700/900/1000 Maintenance Requirements Manual (MRM)—Part 1, Volume 1, CSP B-053, Revision 17, dated June 25, 2017, is currently specified in paragraph (g) of the proposed AD. Bombardier commented that it is planning to issue Revision 18 of the service information by June 25, 2018. Bombardier stated to contact Bombardier for the latest service information should the AD be published after June 25, 2018.

We expect to issue this AD prior to the anticipated date of release of new service information, and we do not agree to delay issuance of this AD until new service information is released. However, if new service information is released after this AD is issued, operators may request approval of an alternative method of compliance (AMOC) under the provisions of paragraph (j)(1) of this AD. We have not changed this AD regarding this issue.

Conclusion

We reviewed the relevant data, considered the comment received, and determined that air safety and the public interest require adopting this AD as proposed, except for minor editorial changes. We have determined that these minor changes:

• Are consistent with the intent that was proposed in the NPRM for correcting the unsafe condition; and

• Do not add any additional burden upon the public than was already proposed in the NPRM.

Related Service Information Under 1 CFR Part 51

Bombardier has issued MRB report task number 320100-229, Restoration (Belleville Washer Replacement) of the MLG Shimmy Damper, of the MRB Report of the Bombardier CRJ700/900/1000 Maintenance Requirements Manual (MRM)—Part 1, Volume 1, CSP B-053, Revision 17, dated June 25, 2017. This service information describes the restoration (Belleville Washer Replacement) of the MLG shimmy damper. This service information is reasonably available because the interested parties have access to it through their normal course of business or by the means identified in the ADDRESSES section.

Costs of Compliance

We estimate that this AD affects 544 airplanes of U.S. registry.

We estimate the following costs to comply with this AD:

We have determined that revising the maintenance or inspection program takes an average of 90 work-hours per operator, although we recognize that this number may vary from operator to operator. In the past, we have estimated that this action takes 1 work-hour per airplane. Since operators incorporate maintenance or inspection program changes for their affected fleet(s), we have determined that a per-operator estimate is more accurate than a per-airplane estimate. Therefore, we estimate the total cost per operator to be $7,650 (90 work-hours x $85 per work-hour).

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866,

2. Is not a “significant rule” under the DOT Regulatory Policies and Procedures (44 FR 11034, February 26, 1979),

3. Will not affect intrastate aviation in Alaska, and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-11-12 Bombardier, Inc., Airplanes: Amendment 39-19300; Docket No. FAA-2017-1175; Product Identifier 2017-NM-087-AD.

(a) Effective Date

This AD is effective July 12, 2018.

(b) Affected ADs

None.

(c) Applicability

This AD applies to all Bombardier, Inc., Model CL-600-2C10 (Regional Jet Series 700, 701, & 702) airplanes, Model CL-600-2D15 (Regional Jet Series 705) airplanes, Model CL-600-2D24 (Regional Jet Series 900) airplanes, and Model CL-600-2E25 (Regional Jet Series 1000) airplanes, certificated in any category.

(d) Subject

Air Transport Association (ATA) of America Code 32, Landing gear.

(e) Reason

This AD was prompted by a report indicating that Belleville washers installed on the shimmy damper of the main landing gear (MLG) may fail due to fatigue. We are issuing this AD to prevent a failed washer segment migrating into the piston cavity and interfering with piston travel. As a result, the shimmy damper performance could be compromised, and an MLG shimmy could occur, potentially leading to an MLG failure and affecting the airplane's safe flight and landing.

(f) Compliance

Comply with this AD within the compliance times specified, unless already done.

(g) Maintenance or Inspection Program Revision

Within 30 days after the effective date of this AD, revise the airplane maintenance or inspection program, as applicable, by incorporating maintenance review board (MRB) report task number 320100-229, Restoration (Belleville Washer Replacement) of the MLG Shimmy Damper, of the MRB Report of the Bombardier CRJ700/900/1000 Maintenance Requirements Manual (MRM)—Part 1, Volume 1, CSP B-053, Revision 17, dated June 25, 2017. The initial compliance time for MRB report task number 320100-229 is specified in paragraphs (g)(1) and (g)(2) of this AD, as applicable.

(1) For any shimmy damper with 20,000 total accumulated flight cycles or fewer as of the effective date of this AD, the initial compliance time is before the accumulation of 26,000 total flight cycles.

(2) For any shimmy damper with 20,000 total accumulated flight cycles or more as of the effective date of this AD, the initial compliance time is specified in paragraph (g)(2)(i) or (g)(2)(ii), whichever occurs later.

(i) Within 6,000 flight cycles after the effective date of this AD, but prior to the accumulation of 30,000 total flight cycles.

(ii) Within 30 days after effective date of this AD.

(h) Credit for Previous Actions

This paragraph provides credit for actions required by paragraph (g) of this AD, if those actions were performed before the effective date of this AD using Bombardier Temporary Revision MRB-0070, dated October 20, 2015.

(i) No Alternative Actions and/or Intervals

After the airplane maintenance or inspection program has been revised, as required by paragraph (g) of this AD, no alternative actions (e.g., inspections) and/or intervals may be used unless the actions and/or intervals are approved as an alternative method of compliance (AMOC) in accordance with the procedures specified in paragraph (j)(1) of this AD.

(j) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO Branch, FAA; or Transport Canada Civil Aviation (TCCA); or Bombardier Inc.'s TCCA Design Approval Organization (DAO). If approved by the DAO, the approval must include the DAO-authorized signature.

(k) Related Information

(1) Refer to Mandatory Continuing Airworthiness Information (MCAI) Canadian Airworthiness Directive CF-2017-14, dated April 21, 2017, for related information. This MCAI may be found in the AD docket on the internet at http://www.regulations.gov by searching for and locating Docket No. FAA-2017-1175.

(2) For more information about this AD, contact Cesar Gomez, Aerospace Engineer, Airframe and Mechanical Systems Section, FAA, New York ACO Branch, 1600 Stewart Avenue, Suite 410, Westbury, NY 11590; telephone 516-228-7318; fax 516-794-5531.

(3) Service information identified in this AD that is not incorporated by reference is available at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Maintenance review board (MRB) report task number 320100-229, Restoration (Belleville Washer Replacement) of the MLG Shimmy Damper, of the MRB Report of the Bombardier CRJ700/900/1000 Maintenance Requirements Manual (MRM)—Part 1, Volume 1, CSP B-053, Revision 17, dated June 25, 2017.

(ii) Reserved.

(3) For service information identified in this AD, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; internet http://www.bombardier.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on May 21, 2018.
James Cashdollar,
Acting Director, System Oversight Division, Aircraft Certification Service.

[FR Doc. 2018-11827 Filed 6-6-18; 8:45 am]

BILLING CODE 4910-13-P